Title 3—

The President

Proclamation 9974 of December 26, 2019

To Take Certain Actions Under the African Growth and Opportunity Act and for Other Purposes

By the President of the United States of America

A Proclamation

1. In Proclamation 7350 of October 2, 2000, the President designated the Republic of Cameroon (Cameroon) as a beneficiary sub-Saharan African country for purposes of section 506A(a)(1) of the Trade Act of 1974, as amended (the “Trade Act”), as added by section 111(a) of the African Growth and Opportunity Act (the “AGOA”) (title I of Public Law 106-200, 114 Stat. 251, 257-58 (19 U.S.C. 2466a(a)(1)).

2. Section 506A(a)(3) of the Trade Act (19 U.S.C. 2466a(a)(3)) provides that the President shall terminate the designation of a country as a beneficiary sub-Saharan African country for purposes of section 506A if he determines that the country is not making continual progress in meeting the requirements described in section 506A(a)(1) of the Trade Act.

3. Pursuant to section 506A(a)(3) of the Trade Act, I have determined that Cameroon is not making continual progress in meeting the requirements described in section 506A(a)(1) of the Trade Act. Accordingly, I have decided to terminate the designation of Cameroon as a beneficiary sub-Saharan African country for purposes of section 506A of the Trade Act, effective January 1, 2020.

4. I have determined that the Republic of Niger (Niger), the Central African Republic, and the Republic of The Gambia (The Gambia) have not established effective visa systems and related customs procedures meeting the requirements of section 113 of the AGOA (19 U.S.C. 3722), which are required in order for a beneficiary sub-Saharan African country to receive the preferential treatment provided for under section 112(a) of the AGOA (19 U.S.C. 3721(a)). Therefore, Niger, the Central African Republic, and The Gambia are not eligible for the treatment provided for under section 112(a).

5. Section 112(c) of the AGOA, as amended in section 6002 of the Africa Investment Incentive Act of 2006 (division D, title VI, Public Law 109-432, 120 Stat. 2922, 3190-93 (19 U.S.C. 3721(c)), provides special rules for certain apparel articles imported from “lesser developed beneficiary sub-Saharan African countries.”

6. I have determined that Guinea-Bissau and Niger satisfy the criterion for treatment as “lesser developed beneficiary sub-Saharan African countries” under section 112(c) of the AGOA.

7. On April 22, 1985, the United States and Israel entered into the Agreement on the Establishment of a Free Trade Area between the Government of the United States of America and the Government of Israel (the “USIFTA”), which the Congress approved in section 3 of the United States-Israel Free Trade Area Implementation Act of 1985 (the “USIFTA Act”) (Public Law 99-47, 99 Stat. 82 (19 U.S.C. 2112 note)).

8. Section 4(b) of the USIFTA Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA.

9. In order to maintain the general level of reciprocal and mutually advantageous concessions with respect to agricultural trade with Israel, on July 27, 2004, the United States entered into an agreement with Israel concerning certain aspects of trade in agricultural products during the period January 1, 2004, through December 31, 2008 (the “2004 Agreement”).

10. In Proclamation 7826 of October 4, 2004, consistent with the 2004 Agreement, the President determined, pursuant to section 4(b) of the USIFTA Act, that, in order to maintain the general level of reciprocal and mutually advantageous concessions with respect to Israel provided for by the USIFTA, it was necessary to provide duty-free access into the United States through December 31, 2008, for specified quantities of certain agricultural products of Israel.

11. Each year from 2008 through 2018, the United States and Israel entered into agreements to extend the period that the 2004 Agreement was in force for 1-year periods to allow additional time for the two governments to conclude an agreement to replace the 2004 Agreement.

12. To carry out the extension agreements, the President in Proclamation 8334 of December 31, 2008; Proclamation 8467 of December 23, 2009; Proclamation 8618 of December 21, 2010; Proclamation 8770 of December 29, 2011; Proclamation 8921 of December 20, 2012; Proclamation 9072 of December 23, 2013; Proclamation 9223 of December 23, 2014; Proclamation 9383 of December 21, 2015; Proclamation 9555 of December 15, 2016; Proclamation 9687 of December 22, 2017; and Proclamation 9834 of December 21, 2018, modified the Harmonized Tariff Schedule of the United States (the “HTS”) to provide duty-free access into the United States for specified quantities of certain agricultural products of Israel, each time for an additional 1-year period.

13. On December 4, 2019, the United States entered into an agreement with Israel to extend the period that the 2004 Agreement is in force through December 31, 2020, and to allow for further negotiations on an agreement to replace the 2004 Agreement.

14. Pursuant to section 4(b) of the USIFTA Act, I have determined that it is necessary, in order to maintain the general level of reciprocal and mutually advantageous concessions with respect to Israel provided for by the USIFTA, to provide duty-free access into the United States through the close of December 31, 2020, for specified quantities of certain agricultural products of Israel, as provided in Annex I of this proclamation.

15. On September 16, 2019, in accordance with section 103(a)(2) of the Bipartisan Congressional Trade Priorities and Accountability Act of 2015 (the “Trade Priorities Act”) (title I of Public Law 114-26, 129 Stat. 319, 333 (19 U.S.C. 4202(a)(2)), I notified the Congress that I intended to enter into an agreement regarding tariff barriers with Japan under section 103(a) of the Trade Priorities Act. On October 7, 2019, the United States and Japan entered into the Trade Agreement between the United States and Japan.

16. Section 103(a)(1) of the Trade Priorities Act authorizes the President to proclaim such modification of any existing duty as the President determines to be required or appropriate to carry out a trade agreement entered into under section 103(a). The President generally may proclaim such modification provided that the modification does not reduce the rate of duty to a rate that is less than 50 percent of the date of such duty that applied on June 29, 2015; does not reduce the rate of duty below that applicable under the Uruguay Round Agreements or a successor agreement on any import-sensitive agricultural product; and does not increase the rate of duty above the rate of such duty that applied on June 29, 2015.

17. Pursuant to section 103(a) of the Trade Priorities Act, I have determined that it is required and appropriate to modify existing duties with respect to certain goods to carry out the Trade Agreement between the United States and Japan.

18. In Proclamation 6763 of December 23, 1994, the President established a tariff-rate quota for beef. Section 404(d)(3) of the Uruguay Round Agreements Act (title IV of Public Law 103-465, 108 Stat. 4809, 4960 (19 U.S.C. 3601(d)(3)) authorizes the President to allocate the in-quota quantity of a tariff-rate quota for any agricultural product among supplying countries or customs areas and to modify any allocation as the President determines appropriate. Pursuant to section 404(d)(3) of the Uruguay Round Agreements Act, I have determined that it is appropriate to modify the tariff-rate quota allocation for beef by providing that the tariff-rate quota allocation for Japan will become part of the total tariff-rate quota allocation for other countries or areas.

19. Section 1206(a) of the Omnibus Trade and Competitiveness Act of 1988 (the “1988 Act”) (title I of Public Law 100-418, 102 Stat. 1107, 1151 (19 U.S.C. 3006(a)) authorizes the President to proclaim modifications to the HTS based on the recommendations of the United States International Trade Commission (the “Commission”) under section 1205 of the 1988 Act (19 U.S.C. 3005) if the President determines that the modifications are in conformity with United States obligations under the International Convention on the Harmonized Commodity Description and Coding System (the “Convention”) and do not run counter to the national economic interest of the United States.

20. In Proclamation 9549 of December 1, 2016, pursuant to section 1206(a) of the 1988 Act, the President proclaimed modifications to the HTS to conform it to the Convention, to promote the uniform application of the Convention, to establish additional subordinate tariff categories, and to make technical and conforming changes to existing provisions. These modifications to the HTS were set out in Annex I of Publication 4653 of the Commission, which was incorporated by reference into the proclamation.

21. Proclamation 7746 of December 30, 2003, implemented the United States-Chile Free Trade Agreement (the “USCFTA”) with respect to the United States and, pursuant to the United States-Chile Free Trade Agreement Implementation Act (the “USCFTA Act”) (Public Law 108-77, 117 Stat. 909 (19 U.S.C. 3805 note)), incorporated in the HTS the schedule of duty reductions and rules of origin necessary or appropriate to carry out the USCFTA.

22. In order to ensure the continuation of such staged reductions in rates of duty for originating goods of Chile in tariff categories that were modified to reflect amendments to the Convention, Proclamation 9549 made modifications to the HTS that the President determined were necessary or appropriate to carry out the duty reductions proclaimed in Proclamation 7746. The United States and Chile are parties to the Convention.

23. Section 201 of the USCFTA Act authorizes the President to proclaim such modifications or continuation of any duty, such continuation of duty-free or excise treatment, or such additional duties, as the President determines to be necessary or appropriate to carry out or apply Articles 3.3, 3.7, 3.9, Article 3.20(8), (9), (10), and (11), and Annex 3.3 (including the schedule of United States duty reductions with respect to originating goods) of the USCFTA.

24. I have determined that, pursuant to section 201 of the USCFTA Act and section 1206(a) of the 1988 Act, modifications to the HTS are necessary or appropriate to ensure the continuation of tariff and certain other treatment accorded to originating goods under tariff categories modified in Proclamation 9549 and to carry out the duty reductions proclaimed in Proclamation 7746.

25. Section 604 of the Trade Act (19 U.S.C. 2483) authorizes the President to embody in the HTS the substance of the relevant provisions of that Act, and of other acts affecting import treatment, and actions thereunder, including removal, modification, continuance, or imposition of any rate of duty or other import restriction.

NOW, THEREFORE, I, DONALD J. TRUMP, President of the United States of America, acting under the authority vested in me by the Constitution and the laws of the United States of America, including sections 506A(a)(1) and 506A(a)(3) of the Trade Act; sections 111(a) and 112(c) of the AGOA; section 6002 of the Africa Investment Incentive Act of 2006; section 4(b) of the USIFTA Act; section 103(a) of the Trade Priorities Act; section 404(d)(3) of the Uruguay Round Agreements Act; section 1206(a) of the 1988 Act; section 201 of the USCFTA Act; and section 604 of the Trade Act, do proclaim that:

(1) The designation of Cameroon as a beneficiary sub-Saharan African country for purposes of section 506A of the Trade Act is terminated, effective January 1, 2020.

(2) In order to reflect in the HTS that beginning January 1, 2020, Cameroon shall no longer be designated as a beneficiary sub-Saharan African country, general note 16(a) to the HTS is modified by deleting “Republic of Cameroon” from the list of beneficiary sub-Saharan African countries. Note 7(a) to subchapter II and note 1 to subchapter XIX of chapter 98 of the HTS are modified to delete “Cameroon” from the list of beneficiary countries. Further, note 2(d) to subchapter XIX of chapter 98 of the HTS is modified by deleting “Republic of Cameroon” from the list of lesser developed beneficiary sub-Saharan African countries.

(3) In order to provide the tariff treatment intended under sections 112(a) and 113 of the AGOA, note 1 to subchapter XIX of Chapter 98 of the HTS is modified by deleting “Niger”, “Central African Republic”, and “The Gambia” from the list of beneficiary sub-Saharan African countries. Further, note 7(a) to subchapter II of chapter 98 of the HTS is modified by deleting “Niger” from the list of beneficiary sub-Saharan African countries.

(4) For purposes of section 112(c) of the AGOA, Guinea-Bissau and Niger are lesser developed beneficiary sub-Saharan African countries.

(5) In order to provide for Guinea-Bissau and Niger the tariff treatment intended under section 112(c) of the AGOA, note 2(d) to subchapter XIX of chapter 98 of the HTS is modified by inserting in alphabetical sequence in the list of lesser developed beneficiary sub-Saharan African countries “Guinea-Bissau” and “Niger”.

(6) The modifications to the HTS set forth in paragraphs (1) through (5) of this proclamation shall be effective with respect to articles that are entered for consumption, or withdrawn from warehouse for consumption, on or after January 1, 2020.

(7) In order to implement United States tariff commitments under the 2004 Agreement through December 31, 2020, the HTS is modified as provided in Annex I of this proclamation.

(8) The modifications to the HTS set forth in Annex I of this proclamation shall be effective with respect to eligible agricultural products of Israel that are entered for consumption, or withdrawn from warehouse for consumption, on or after January 1, 2020.

(9) The provisions of subchapter VIII of chapter 99 of the HTS, as modified by Annex I of this proclamation, shall continue in effect through December 31, 2020.

(10) In order to modify tariffs on certain goods to carry out the Trade Agreement between the United States and Japan, the HTS is modified as set forth in Annex II of this proclamation.

(11) The modifications to the HTS set forth in Annex II of this proclamation shall be effective with respect to originating goods, as defined in the Trade Agreement between the United States and Japan, effective on the dates specified in Annex II and on any subsequent dates set forth for such duty reductions in Annex II.

(12) The Secretary of the Treasury shall use existing authority to issue any regulations necessary to implement the modifications made pursuant to paragraphs (10) and (11) of this proclamation.

(13) Additional U.S. note 3 to chapter 2 of the HTS is modified as specified in Annex III of this proclamation. The modifications to the HTS set forth in Annex III of this proclamation shall be effective with respect to goods that are entered for consumption, or withdrawn from warehouse for consumption, on or after January 1, 2020.

(14) In order to reflect in the HTS the modifications to the rules of origin under the USCFTA, general note 26 to the HTS is modified as provided in Annex IV of this proclamation.

(15) The modifications to the HTS made by paragraph (14) of this proclamation shall enter into effect on April 1, 2020.

(16) Any provisions of previous proclamations and Executive Orders that are inconsistent with the actions taken in this proclamation are superseded to the extent of such inconsistency.

IN WITNESS WHEREOF, I have hereunto set my hand this twenty-sixth day of December, in the year of our Lord two thousand nineteen, and of the Independence of the United States of America the two hundred and forty-fourth.

Billing code 3295-F0-P

[FR Doc. 2019-28285

Filed 12-27-19; 11:15 am]

Billing code 7020-02-C